DEPARTMENT OF THE TREASURY

Alcohol and Tobacco Tax and Trade Bureau

27 CFR Part 9

[Docket No. TTB-2018-0008; Notice No. 177]

RIN 1513-AC40

Proposed Establishment of the West Sonoma Coast Viticultural Area

Correction

In proposed rule document C1-2018-26321 appearing on page 63824 in the issue of Wednesday, December 12, 2018, make the following corrections:

1. On page 63824, in the third column, the fourth line from the bottom of the page “January 7, 2018” should read “January 7, 2019.”

2. On page 63824, in the third column, the third line from the bottom of the page “February 4, 2018” should read “February 4, 2019.”

[FR Doc. C2-2018-26321 Filed 12-14-18; 8:45 am]

BILLING CODE 1301-00-D